DEPARTMENT OF TRANSPORTATION

Federal Highway Administration

Environmental Impact Statement; Hatillo-Aguadilla Corridor, Puerto Rico

AGENCY: Federal Highway Administration (FHWA), DOT.

ACTION: Notice of intent.

SUMMARY: The FHWA is issuing this notice to advise the public that an environmental impact statement (EIS) will be prepared for the Hatillo-Aguadilla Corridor in the northwestern area of Puerto Rico.

FOR FURTHER INFORMATION CONTACT: Jose Luis Torres, P.E., Federal Highway Administration, Puerto Rico Division, 350 Carlos Chardon Street, Suite 210, San Juan, Puerto Rico 00918, Telephone (787)766-5600 Ext. 234; or Ms. Irma Garcia, P.E., Programming and Special Studies Area, Puerto Rico Highway and Transportation Authority, PO Box 42007, San Juan, Puerto Rico, 00940-2007, Telephone (787)729-1580.

SUPPLEMENTARY INFORMATION:

Electronic Access

An electronic copy of this document may be downloaded by using a computer, modem and suitable communications software from the Government Printing Office's Electronic Bulletin Board Service at (202) 512-1661. Internet users may reach the Office of the Federal Register's home page at: http://www.archives.gov and the Government Printing Office's Web site at: http://www.access.gpo.gov/nara.

Background

The FHWA, in cooperation with the Commonwealth of Puerto Rico Department of Transportation and Public Works (PRDTPW), through its Highway and Transportation Authority (HTA), will prepare a joint environmental impact statement (EIS) on a proposal to construct a new roadway between the municipalities of Hatillo and Aguadilla.

Various environmental resources and issues are known to exist within the limits of the study area for this project. These resources and issues include, but are not limited to: location of prime agricultural land; archaeological resources; historic resources; residential, business and recreational land uses; geology; water quality; scenic viewsheds; native plant communities; wetlands; noise; and preservation of the natural, cultural, scenic and recreational values of the area. Any resources protected under Section 4(f) of the Department of Transportation Act ¹ (49 U.S.C. 303 and 23 U.S.C. 138; 23 CFR 771.135(a)) will be addressed in a section 4(f) statement to be prepared for this project.

¹ Section 4(f) of Pub. L. 89-670, 80 Stat. 934, was repealed by Pub. L. 97-449, 96 Stat. 2444, and enacted without substantive change at 49 U.S.C. 303; Section 138 of title 23, U.S.C., remains unchanged. Because of common usage and familiarity, the term section 4(f) continues to be used by the Department of Transportation in matters relating to 49 U.S.C. 303 and 23 U.S.C. 138.

Section 106 of the National Historic Preservation Act (Pub. L. 89-665, 80 Stat. 915; 36 CFR part 800) applies to the project. Consultation pursuant to Section 106 is being initiated.

The EIS will address the impacts related to the construction of a new roadway in the Hatillo-Aguadilla Corridor. Recent planning efforts leading to the preparation of an EIS include development of design concepts for the following alternatives: (1) No Action; (2) Conversion to Expressway of existing road PR-2; (3) A New Road, and; (4) A combination of alternatives (2) and (3).

Correspondence describing this proposed action and requesting comments will be sent to appropriate Federal, Commonwealth, and local agencies and to private organizations and individuals that have previously expressed, or are known to have, an interest in this proposal. In addition, public scoping meetings will be held in the Spring/Summer of 2003.

To ensure that the full range of issues and alternatives related to this proposed action is addressed and all significant issues identified, comments and suggestions are invited from interested parties. Comments or questions concerning this proposed action should be directed to the FHWA at the address provided above. The view of agencies having interest on this proposal or knowledge of potential effects on the environmental resources listed above is requested.

(Authority: 23 U.S.C. 315; 49 CFR 1.48)
Issued on: May 13, 2003.
Lubin M.Quiñones,
Division Administrator, Puerto Rico Division Office.

[FR Doc. 03-12542 Filed 5-19-03; 8:45 am]

BILLING CODE 4910-22-P